DEPARTMENT OF HEALTH AND HUMAN SERVICES

Administration on Aging 2005 White House Conference on Aging

AGENCY: Administration on Aging, HHS.

ACTION: Notice of selection of individuals to serve as At-Large Delegates to the 2005 White House Conference on Aging (WHCoA).

SUMMARY: The Policy Committee of the 2005 White House Conference on Aging (WHCoA) announces the selection of At-Large Delegates to attend the 2005 WHCoA from December 11 through 14, 2005.

DATES: The meeting will be held from Sunday, December 11, 2005 to Wednesday, December 14, 2005.

ADDRESSES: The meeting will be held at the Marriott Wardman Park Hotel, 2660 Woodley Road, NW., Washington, DC 20008.

FOR FURTHER INFORMATION CONTACT: Scott Nystrom, Executive Director, WHCoA, at (301) 443-2511, or e-mail at Scott.Nystrom@whcoa.gov.

SUPPLEMENTARY INFORMATION: Pursuant to the Older Americans Act Amendments of 2000 (Pub. L. 106-501, November 2000), the WHCoA Policy Committee announces the selection of At-Large Delegates to the 2005 WHCoA. Previously, Governors of all 50 States, the U.S. Territories, the Commonwealth of Puerto Rico, and the District of Columbia, Members of the 109th Congress, and the National Congress of American Indians selected the majority of delegate representatives to the 2005 WHCoA. The Policy Committee has tried to ensure that, with the selection of these At-Large Delegates and as mandated by statute, designated delegates represent a broad cross section of the U.S. population so that concerns and issues of current as well as future seniors receive appropriate attention.

All delegates will vote on resolutions and develop implementation strategies to be presented to the President and Congress to help guide national aging policies for the next decade and beyond. A complete list of all delegates can be found on the WHCoA web site at http://www.whcoa.gov.

Dated: September 7, 2005.
Edwin L. Walker,
Deputy Assistant Secretary for Policy and Programs.

[FR Doc. 05-18035 Filed 9-9-05; 8:45 am]

BILLING CODE 4154-01-P